DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Fisheries Certificate of Origin.

OMB Control Number: 0648-335.

Form Number(s): NOAA 370.

Type of Request: Regular submission (extension of a currently approved collection).

Number of Respondents: 440.

Average Hours Per Response: 20 minutes.

Burden Hours: 4,167.

Needs and Uses: The information on the Fisheries Certificate of Origin is required by the International Dolphin Conservation Program Act, amendment to the Marine Mammal Protection Act, and is needed: To document the Dolphin-safe status of tuna import shipments; to verify that import shipments of fish not harvested by large scale, high seas driftnets; and to verify that imported tuna not harvested by an embargoed nation or one that is otherwise prohibited from exporting tuna to the United States. The forms are submitted by importers and processors.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 9, 2010.
Gwellnar Banks,
Management Analyst, Office of the Chief Information Officer.

[FR Doc. 2010-17186 Filed 7-14-10; 8:45 am]

BILLING CODE 3510-22-P